DEPARTMENT OF ENERGY

Federal Energy Regulatory Commission

[Docket No. RP10-337-000]

Wyoming Interstate Company, Inc.; Notice of Technical Conference

March 10, 2010.

Take notice that Commission Staff will convene a technical conference in the above-referenced proceeding on Wednesday, March 24, 2010, at 9 a.m. (EST), in a room to be designated at the offices of the Federal Energy Regulatory Commission, 888 First Street, NE., Washington, DC 20426.

The purpose of the conference is to address all issues arising from Wyoming Interstate Company's (WIC's) January 28, 2010 tariff filing. That filing was intended to revise the gas quality allocation procedures that WIC may implement when differing carbon dioxide or Btu standards on downstream pipelines cause these downstream pipelines to restrict or cease receipts into their pipeline systems to enforce their own gas quality specifications.

WIC should be prepared to address all concerns raised by the parties in their comments to the filing, and to provide additional technical, engineering, and operational support for its proposed gas quality allocation procedures. Consistent with the Commission's policy statement on gas quality issues, WIC should also be prepared to explain how its proposal conforms with or differs from the Interim Guidelines and principles. See Natural Gas Interchangeability, Policy Statement on Provisions Governing Natural Gas Quality and Interchangeability in Interstate Natural Gas Pipeline Company Tariffs, 115 FERC ¶ 61,325 (2006) P 34, 37.

Further, WIC should be prepared to identify and discuss any existing gas quality waivers on its system, including how long those waivers have been in place. Any party proposing alternatives to WIC's proposals should be prepared to support its position with adequate technical, engineering, and operational information.

FERC conferences are accessible under section 508 of the Rehabilitation Act of 1973. For accessibility accommodations please send an e-mail to accessibility@ferc.gov or call toll free (866) 208-3372 (voice) or (202) 502-8659 (TTY), or send a fax to (202) 208-2106 with the required accommodations.

All interested persons are permitted to attend. For further information please contact Michael.Freeman at (202) 502-6367 or at Michael.Freeman@ferc.gov.

Kimberly D. Bose,
Secretary.

[FR Doc. 2010-5775 Filed 3-16-10; 8:45 am]

BILLING CODE 6717-01-P